DEPARTMENT OF TRANSPORTATION

Federal Aviation Administration

Public Notice for a Change in Aeronautical Use of Airport Property at Sullivan County International Airport, Monticello, NY

AGENCY: Federal Aviation Administration (FAA), DOT.

ACTION: Request for public comment.

SUMMARY: The FAA is requesting public comment on Lancaster Airport, Inc.'s (airport owner) notice of the proposed release of approximately 5 acres of airport property located on the west side of County Road 183 opposite the airport entrance road, to allow for the development of a Bus Garage facility, considered non-aviation development.

This parcel was part of a larger tract, which was purchased by the County for aeronautical use with 50% federal participation. Documents reflecting the sponsor's request are available, by appointment only, for inspection at the Airport manager's office and the FAA Airports District Office.

FAA's action is to release the land from a deed provision requiring aeronautical use of the property. It has been determined that it has no aeronautical use for the parcel now or in the foreseeable future, according to the Sullivan County International Airport Layout Plan.

Since the county remains the owner of the property, no revenue is involved. The airport will benefit from a bus stop at the airport.

Any comments the agency receives will be considered as a part of the discussion.

DATES: Comments must be received on or before July 23, 2004.

ADDRESSES: Comments on this application may be mailed or delivered to the FAA at the following address: Philip Brito, Manager, FAA New York Airports District Office, 600 Old Country Road, Suite 446, Garden City, New York 11530.

In addition, a copy of any comments submitted to the FAA must be mailed or delivered to Mr. Robert LaTratta, President, Sullivan County International Airport, Inc. at the following address: Mr. Robert L. Tratta, Acting Airport Manager, Sullivan County International Airport, 100 North Street, P.B. Box 5012, Monticello, New York 12701-5192.

FOR FURTHER INFORMATION CONTACT: Mr. Philip Brito, Manager, New York Airports District Office, 600 Old Country Road, Suite 446, Garden City, New York 11530; telephone (516) 227-3803; FAX (516) 227-3813; e-mail Philip.Brito@faa.gov.

SUPPLEMENTARY INFORMATION: Section 125 of the Wendell H. Ford Aviation Investment and Reform Act for the 21st Century (AIR21) requires the FAA to provide an opportunity for public notice and comment before the Secretary may waive a sponsor's Federal obligation to use certain airport land for aeronautical use.

Issued in Garden City, New York, on June 14, 2004.
Philip Brito,
Manager, New York Airports District Office, Eastern Region.

[FR Doc. 04-14205 Filed 6-22-04; 8:45 am]

BILLING CODE 4910-13-M